DEPARTMENT OF DEFENSE

Department of the Army; Army Corps of Engineers

Notice of Intent To Prepare a Joint Environmental Impact Statement/Environmental Impact Report for the Folsom Dam Water Control Manual Update

AGENCY: Department of the Army, U.S. Army Corps of Engineers; DOD.

ACTION: Notice of Intent.

SUMMARY: The U.S. Army Corps of Engineers, Sacramento District (USACE) intends to prepare a joint Environmental Impact Statement/Environmental Impact Report (EIS/EIR) for the Folsom Dam Water Control Manual Update (Folsom WCM Update). USACE will serve as lead agency and the Bureau of Reclamation will be a cooperating agency for compliance with the National Environmental Policy Act (NEPA), and the Central Valley Flood Protection Board (CVFPB) will serve as lead agency for compliance with the California Environmental Quality Act (CEQA). The Folsom WCM Update is intended to improve the ability of Folsom Dam to utilize the new physical features to manage large flood events and meet dam safety requirements.

DATES: Written comments regarding the scope of the environmental analysis should be received by November 11, 2012.

ADDRESSES: Written comments and suggestions concerning this project and requests to be included on the project mailing list may be submitted to Tyler Stalker, U.S. Army Corps of Engineers, Sacramento District, Attn: Public Affairs Office (CESPK-PAO), 1325 J Street, Sacramento, CA 95814.

FOR FURTHER INFORMATION CONTACT: Tyler Stalker via telephone at (916) 557-5107, email at Tyler.M.Stalker@usace.army.mil, or mail at (see ADDRESSES). Study information will also be posted periodically on the Internet at http://www.spk.usace.army.mil/Missions/CivilWorks/JointFederalProject.aspx

SUPPLEMENTARY INFORMATION: 1. Proposed Action. The Folsom WCM Update will identify, evaluate, and recommend changes to the flood management operation rules of Folsom Dam and Reservoir to reduce flood risk to the Sacramento area by utilizing the auxiliary spillway currently under construction and by incorporating an improved understanding of the American River watershed upstream of Folsom Dam. The findings of the evaluation will be used to help define the Dam's new flood operations plan, with the intention of meeting flood risk management objectives and dam safety requirements in a manner that conserves as much water as possible and maximizes all authorized Folsom Dam project uses to the extent practicable.

2. Alternatives. The EIS/EIR will develop new operational rules to meet dam safety and flood risk management objectives that comply with Congressional direction to reduce Folsom Reservoir variable space allocation from the current operating range of 400,000-670,000 acre-feet (ac-ft) to 400,000-600,000 ac-ft. In addition, the incorporation of improved forecasting capabilities and basin wetness parameters as part of flood management operations will be evaluated. A number of flood management operation alternatives are expected to be developed and the effect of those alternatives on Folsom Dam and Reservoir's other authorized purposes will be analyzed in the EIS/EIR.

3. Scoping Process.

a. Two public scoping meetings will be held to present an overview of the Folsom WCM Update and the EIS/EIR process, and to afford all interested parties with an opportunity to provide comments regarding the scope of analysis and potential alternatives. The public scoping meetings will be held at the following locations, dates, and times: Sacramento Library Galleria, 828 I Street, Sacramento, CA. October 15th, 2012, 4 p.m. to 7 p.m. and Folsom Community Center, 52 Natoma Street, Folsom, CA. October 22nd, 2012, 4 p.m. to 7 p.m.

b. Potentially significant issues to be analyzed in depth in the EIS/EIR include project-specific, system-wide, and cumulative effects on authorized purposes of the Folsom Dam project and the environmental resources associated with those purposes. Effects analyzed will include: Water supply for irrigation, municipal, and industrial uses; fish and wildlife resources; power generation; water quality; recreation; special status species; soils and levee safety; and cultural resources.

c. USACE will consult with the U.S. Fish and Wildlife Service and National Marine Fisheries Service to comply with the Endangered Species Act, the Fish and Wildlife Coordination Act, and the requirements of the current Biological Opinions that affect the operations of Folsom Dam. USACE will consult with the State Historic Preservation Officer to comply with the National Historic Preservation Act. USACE will coordinate with the U.S. Bureau of Indian Affairs to establish consultation requirements with tribes having trust assets and tribal interests that could be affected by the WCM Update's outcome.

d. A 45-day public review period will be provided for individuals, interested parties, and agencies to review and comment on the draft EIS/EIR. All interested parties are encouraged to respond to this notice and provide a current address if they wish to be notified of the draft EIS/EIR circulation.

4. Availability. The draft EIS/EIR is scheduled to be available for public review and comment in 2015.

Brenda S. Bowen,
Army Federal Register Liaison Officer.

[FR Doc. 2012-25307 Filed 10-15-12; 8:45 am]

BILLING CODE 3720-58-P